DEPARTMENT OF DEFENSE

Office of the Secretary

[Docket ID: DoD-2022-OS-0098]

Proposed Collection; Comment Request

Correction

In notice document 2022-16970, appearing on page 48166, in the Issue of Monday, August 8, 2022, make the following correction.

On page 48166, in the second column, in the “DATES” section, in the second line, “October 4, 2022” should read “October 7, 2022”.

[FR Doc. C1-2022-16970 Filed 8-17-22; 2:00 pm]

BILLING CODE 0099-10-D